DEPARTMENT OF COMMERCE

Census Bureau

Agency Information Collection Activities; Submission to the Office of Management and Budget (OMB) for Review and Approval; Comment Request; High Frequency Surveys/Household Trends and Outlook Pulse Survey (HTOPS); Correction

AGENCY: Census Bureau, Department of Commerce.

ACTION: Notice; correction.

SUMMARY: On February 28, 2025, the Department of Commerce published a 30-day public comment period notice in the Federal Register seeking public comments for an information collection entitled, “High-Frequency Surveys Program/Household Trends and Outlook Pulse Survey (HTOPS).” This document referenced incorrect information in the SUMMARY AND DATA sections, and Commerce hereby issues a correction notice as required by the Paperwork Reduction Act of 1995.

FOR FURTHER INFORMATION CONTACT: For additional information concerning this correction, contact Cassandra Logan, Survey Director, Demographic High Frequency Surveys via the internet at addp.htops@census.gov, or by calling 301-763-1087.

SUPPLEMENTARY INFORMATION:

Corrections

Summary

The U.S. Census Bureau published a document in the Federal Register on February 28, 2025 (90 FR 10879, FR Document Number 2025-03194), concerning a request for comments on the HTOPS March, April and May collections. This notice updates the data collection months originally published in the Federal Register. The content for the March data collection was changed to occur in May. The April data collection will commence as planned. The content planned for the May data collection will take place at a later date, to be determined.

Data

Type of Review: Regular submission. Request for a Revision of a Currently Approved Collection.

Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-05093 Filed 3-25-25; 8:45 am]

BILLING CODE 3510-07-P